DEPARTMENT OF DEFENSE

Department of the Air Force

Headquarters United States Air Force Scientific Advisory Board

AGENCY: Department of the Air Force, DoD.

ACTION: Notice of meeting; correction.

SUMMARY: The Air Force published a notice of meeting of the Scientific Advisory Board in the Federal Register of March 20, 2002. The meeting date has changed.

FOR FURTHER INFORMATION CONTACT: Mr. Robert Ripperger, Air Force Scientific Advisory Board Secretariat, 1180 Air Force Pentagon, Rm 5D982, Washington, DC 20330-1180 (703) 697-4811.

Correction

In the Federal Register of March 20, 2002, 67 FR 12978, second column, the dates should be changed from April 1, 2002 to read May 2-3, 2002. Also in the same notice, the addresses caption should be changed to read: Building 880, Room A49, Kirtland Air Force Base, NM.

Pamela D. Fitzgerald,
Air Force Federal Register Liaison Officer.

[FR Doc. 02-8539 Filed 4-8-02; 8:45 am]

BILLING CODE 5001-05-P